DEPARTMENT OF THE TREASURY

Internal Revenue Service

Members of Senior Executive Service Performance Review Boards

AGENCY: Internal Revenue Service (IRS), Department of the Treasury (Treasury).

ACTION: Notice.

SUMMARY: The purpose of this notice is to publish the names of those IRS employees who will serve as members on IRS's Fiscal Year 2012 Senior Executive Service (SES) Performance Review Boards.

DATES: This notice is effective September 1, 2012.

FOR FURTHER INFORMATION CONTACT: Debbie Salisbury, IRS, 1111 Constitution Avenue NW., Room 2412, Washington, DC 20224, (202) 622-4116.

SUPPLEMENTARY INFORMATION: Pursuant to 5 U.S.C. 4314(c)(4), this notice announces the appointment of members to the IRS's SES Performance Review Boards. The names and titles of the executives serving on the boards are as follows:

Steven T. Miller, Deputy Commissioner for Services and Enforcement

Elizabeth Tucker, Deputy Commissioner for Operations Support

Peggy A. Bogadi, Commissioner, Wage and Investment (W&I)

Lauren Buschor, Associate Chief Information Officer (CIO), Enterprise Operations, Information Technology (IT)

Robin L. Canady, Director, Strategy and Finance (W&I)

Rebecca A. Chiaramida, Director, Privacy, Governmental Liaison and Disclosure (PGLD)

James P. Clifford, Director, Compliance (W&I)

Robert N. Crawford, Associate CIO, Enterprise Services (IT)

Michael Danilack, Deputy Commissioner, International, Large Business and International (LB&I)

Jonathan M. Davis, Chief of Staff/Executive Director, Strategy and Organizational Development, Office of the Commissioner

Monica H. Davy, Executive Director, Office of Equity, Diversity and Inclusion, Office of the Commissioner

Paul D. DeNard, Deputy Commissioner, Operations (LB&I)

Faris R. Fink, Commissioner, Small Business/Self Employed (SB/SE)

Carl T. Froehlich, Associate CIO, End User and Equipment Services (IT)

Julieta Garcia, Director, Customer Assistance, Relationships and Education (W&I)

Silvana G. Garza, Associate CIO, Affordable Care Act Program Management Office (IT)

David A. Grant, Chief, Agency-Wide Shared Services (AWSS)

Joseph H. Grant, Deputy Commissioner, Tax Exempt and Government Entities (TE/GE)

Rena C. Girinakis, Executive Director, Systemic Advocacy, Taxpayer Advocate Service (TAS)

Patricia J. Haynes, Director, Investigative and Enforcement Operations, Criminal Investigation (CI)

Shenita L. Hicks, Director, Examination (SB/SE)

Debra S. Holland, Deputy Commissioner for Support (W&I)

Robert L. Hunt, Director, Collection (SB/SE)

Robin DelRey Jenkins, Director, Office of Business Modernization (SB/SE)

Michael D. Julianelle, Director, Enterprise Collection Strategy (SB/SE)

Gregory E. Kane, Deputy Chief Financial Officer, Chief Financial Office (CFO)

Sheldon M. Kay, Deputy Chief, Appeals (AP)

Frank M. Keith, Jr., Chief, Communications and Liaison (C&L)

David A. Krieg, IRS Human Capital Officer, Human Capital Office (HCO)

Pamela J. LaRue, Chief Financial Officer (CFO)

Heather C. Maloy, Commissioner, LB&I

Stephen L. Manning, Associate CIO, User and Network Services (IT)

Rosemary D. Marcuss, Director, Research, Analysis and Statistics (RAS)

C. Andre Martin, Director, Investigative and Enforcement Services (CI)

Rajive K. Mathur, Director, Online Services (OLS)

Gretchen R. McCoy, Associate CIO, Modernization Program Management Office (IT)

James M. McGrane, Deputy CIO for Strategy/Modernization (IT)

Terence V. Milholland, Chief Technology Officer/Chief Information Officer (IT)

Katherine M. Miller, Associate CIO, Applications Development (IT)

Debra L. Nelson, Director, Management Services (IT)

Nina E. Olson, National Taxpayer Advocate (TAS)

Jodell L. Patterson, Director, Return Integrity and Correspondence Services (W&I)

Ruth Perez, Deputy Commissioner, SB/SE

Julie Rushin, Deputy CIO for Operations (IT)

Melissa R. Snell, Deputy National Taxpayer Advocate (TAS)

David W. Stender, Associate CIO, Cybersecurity (IT)

Peter J. Stipek, Director, Customer Accounts Services (W&I)

Kathryn D. Vaugh, Director, Campus Compliance Services (SB/SE)

Jennifer L. Vozne, Director, International Operations (CI)

Peter C. Wade, Business Modernization Director (W&I)

Christopher Wagner, Chief, Appeals (AP)

Richard Weber, Chief, CI

Matthew A. Weir, Executive Director, Case Advocacy (TAS)

This document does not meet the Treasury's criteria for significant regulations.

Dated: August 14, 2012.
Beth Tucker,
Deputy Commissioner for Operations Support, Internal Revenue Service.

[FR Doc. 2012-20439 Filed 8-20-12; 8:45 am]

BILLING CODE 4830-01-P